DEPARTMENT OF THE INTERIOR

National Park Service

Notice of Intent to Repatriate Cultural Items in the Possession of the Springfield Science Museum, Springfield, MA

AGENCY: National Park Service, Interior.

ACTION: Notice.

Notice is hereby given in accordance with provisions of the Native American Graves Protection and Repatriation Act, 43 CFR 10.10 (a)(3), of the intent to repatriate cultural items in the possession of the Springfield Science Museum, Springfield, MA, that meet the definition of “unassociated funerary objects” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 151 cultural items are glass beads, shell beads, chert projectile points, and rolled lead sheets.

In 1925, these items were donated to the Springfield Science Museum by J.T. Bowne. According to museum records, the objects came from “Indian graves on the east bank of Cayuga Lake, Union Springs, New York.” The area from which the remains were collected is in Cayuga County, NY, and, based on historical sources and treaties, lies within the area in which the Cayuga had villages. Cultural material recovered from this site, including chert projectile points and glass beads, supports a Late Woodland and postcontact date (circa A.D. 1000-1700). The Springfield Science Museum does not have possession of the human remains from this site.

Based on the above-mentioned information, officials of the Springfield Science Museum have determined that, pursuant to 43 CFR 10.2 (d)(2)(ii), these cultural items are reasonably believed to have been placed with or near individual human remains at the time of death or later as part of the death rite or ceremony and are believed, by a preponderance of the evidence, to have been removed from a specific burial site of a Native American individual. Officials also have determined that, pursuant to 43 CFR 10.2 (e), there is a relationship of shared group identity that can be reasonably traced between these cultural items and the Cayuga Nation of New York.

This notice has been sent to officials of the Cayuga Nation of New York, Seneca Nation of New York, and the Seneca-Cayuga Tribe of Oklahoma. Representatives of any other Indian tribe that believes itself to be culturally affiliated with these unassociated funerary objects should contact John Pretola, Curator of Anthropology, Springfield Science Museum, 236 State Street, Springfield, MA 01103, telephone (413) 263-6800, extension 320, before May 10, 2002. Repatriation of these unassociated funerary objects to the Cayuga Nation of New York may begin after that date if no additional claimants come forward.

Dated: February 14, 2002.
Robert Stearns,
Manager, National NAGPRA Program.

[FR Doc. 02-8628 Filed 4-9-02; 8:45 am]

BILLING CODE 4310-70-S